DEPARTMENT OF COMMERCE

Patent and Trademark Office

[Docket No.: PTO-P-2024-0052]

Manual of Patent Examining Procedure, Ninth Edition, Revision January 2024

AGENCY: United States Patent and Trademark Office, Department of Commerce.

ACTION: Notice.

SUMMARY: To provide updates to patent examination policy and procedures in a single source, which will improve access to essential guidance for all stakeholders and help to ensure issuance of robust and reliable patents that promote and protect innovation, the United States Patent and Trademark Office (USPTO or Office) issued a revision of the Ninth Edition of the Manual of Patent Examining Procedure (MPEP), published in November 2024 (January 2024 revision). The MPEP provides patent examiners and the public with a reference work on the practices and procedures relative to the prosecution of patent applications and other proceedings before the USPTO. The MPEP contains instructions to examiners, as well as other material in the nature of information and interpretation, and outlines the current procedures that examiners are required or authorized to follow in appropriate cases in the normal examination of patent applications and during other Office proceedings.

ADDRESSES: The USPTO prefers that any suggestions for improving the form and content of the MPEP be submitted via email to mpepfeedback@uspto.gov or via the IdeaScale® tool accessed from www.uspto.gov/MPEP. Written comments may also be submitted by mail addressed to: Commissioner for Patents, P.O. Box 1450, Alexandria, VA 22313-1450, marked to the attention of Editor, Manual of Patent Examining Procedure.

FOR FURTHER INFORMATION CONTACT: Jeanne Clark, Editor of the MPEP, by email at Jeanne.Clark@uspto.gov, or telephone at 571-272-7714; Monique Cole, Senior Patent Examination Policy Advisor, by email at Monique.Cole@uspto.gov, or telephone at 571-272-1463; or Kathy Mosser, Senior Patent Examination Policy Advisor, by email at Kathleen.Mosser@uspto.gov, or telephone at 571-272-4435.

SUPPLEMENTARY INFORMATION: The USPTO issued a revision to the Ninth Edition of the MPEP (January 2024 revision), published in November 2024, which provides USPTO patent examiners, applicants, attorneys, agents, representatives of applicants, and other members of the public with a reference work on the practices and procedures relative to the prosecution of patent applications and other proceedings before the USPTO. The MPEP contains instructions to examiners, as well as other material in the nature of information and interpretation, and outlines the current procedures that examiners are required or authorized to follow in the normal examination of patent applications and during other Office proceedings. Although the MPEP does not have the force of law or the force of the rules in 37 CFR, it “is well known to those registered to practice in the [US]PTO and reflects the presumptions under which the [US]PTO operates.” Critikon, Inc. v. Becton Dickinson Vascular Access, Inc., 120 F.3d 1253, 1257, 43 USPQ2d 1666, 1669 (Fed. Cir. 1997).

In the November 2024 publication of the January 2024 revision to the MPEP, sections of chapters 200-700, 900-1600, 1800, and 2100-2900 have been updated. The updated sections have a revision indicator of [R-01.2024], meaning these sections have been updated to include changes based on published guidance documents (e.g., rulemaking, notices, guidelines, and memorandums) that were in effect on or before January 31, 2024. In addition, Chapter FPC (Form Paragraph Book), the Title Page, Foreword, Introduction, Subject Matter Index, Appendix II, Appendix L, and Appendix R have been updated. The changes in the November 2024 publication are discussed in the Change Summary for the Ninth Edition, Revision 01.2024. The Change Summary is available at www.uspto.gov/MPEP. Citation to a revised section in this revision of the MPEP should be to “e9 r01.2024,” e.g., MPEP 2163 (e9 r01.2024).

The November 2024 publication of the January 2024 revision of the MPEP may be viewed or downloaded free of charge from the USPTO website at www.uspto.gov/MPEP and is available to search online at mpep.uspto.gov. Archived copies of each of the prior revisions and editions of the MPEP continue to be available for reference on the USPTO website at www.uspto.gov/web/offices/pac/mpep/old/index.htm.

Katherine K. Vidal,
Under Secretary of Commerce for Intellectual Property and Director of the United States Patent and Trademark Office.

[FR Doc. 2024-25693 Filed 11-7-24; 8:45 am]

BILLING CODE 3510-16-P